DEPARTMENT OF ENERGY

Federal Energy Regulatory Commission

[Project No. 12766-006]

Green Mountain Power Corporation; Notice of Intent To File License Application, Filing of Pre-Application Document, Approving Use of the Traditional Licensing Process

a. Type of Filing: Notice of Intent to File License Application and Request to Use the Traditional Licensing Process.

b. Project No.: 12766-006.

c. Date Filed: November 29, 2016.

d. Submitted By: Green Mountain Power Corporation.

e. Name of Project: Clay Hill Road Line 66 Transmission Line Project.

f. Location: Adjacent to Clay Hill Road, in Windsor County, Vermont. No federal lands are occupied by the project works or located within the project boundary.

g. Filed Pursuant to: 18 CFR 5.3 of the Commission's regulations.

h. Potential Applicant Contact: Mr. John Greenan, Green Mountain Power Corporation, 2152 Post Road, Rutland, VT 05701; phone: (802) 770-2195.

i. FERC Contact: Bill Connelly at (202) 502-8587; or email at william.connelly@ferc.gov.

j. Green Mountain Power Corporation (Green Mountain Power) filed its request to use the Traditional Licensing Process on November 29, 2016. Green Mountain Power provided public notice of its request on December 3, 2016. In a letter issued on January 17, 2017, the Director of the Division of Hydropower Licensing approved Green Mountain Power's request to use the Traditional Licensing Process.

k. With this notice, we are initiating informal consultation with the U.S. Fish and Wildlife Service under section 7 of the Endangered Species Act and the joint agency regulations thereunder at 50 CFR, part 402. We are also initiating consultation with the Vermont State Historic Preservation Officer, as required by section 106, National Historic Preservation Act, and the implementing regulations of the Advisory Council on Historic Preservation at 36 CFR 800.2.

l. Green Mountain Power filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

n. The licensee states its unequivocal intent to submit an application for a new license for Project No. 12766-006. Pursuant to 18 CFR 16.8, 16.9, and 16.10 each application for a new license and any competing license applications must be filed with the Commission at least 24 months prior to the expiration of the existing license. All applications for license for this project must be filed by November 30, 2019.

o. Register online at http://www.ferc.gov/docs-filing/esubscription.asp to be notified via email of new filing and issuances related to this or other pending projects. For assistance, contact FERC Online Support.

Dated: January 17, 2017.
Nathaniel J. Davis, Sr.,
Deputy Secretary.

[FR Doc. 2017-02069 Filed 1-31-17; 8:45 am]

BILLING CODE 6717-01-P